DEPARTMENT OF COMMERCE

Census Bureau

Agency Information Collection Activities; Submission to the Office of Management and Budget (OMB) for Review and Approval; Comment Request; American Community Survey (ACS) Methods Panel Tests

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on October 23, 2024, during a 60-day comment period. This notice allows for an additional 30 days for public comments.

Agency: U.S. Census Bureau, Department of Commerce.

Title: American Community Survey Methods Panel Testing.

OMB Control Number: 0607-0936.

Form Number(s): ACS-1, ACS-1(GQ), ACS-1(PR)SP, ACS CAPI(HU), and ACS RI(HU).

Type of Request: Regular Submission, Request for a Revision of a Currently Approved Collection.

Number of Respondents:

Test | Estimated number of respondents
Questionnaire Timing Test | 288,000.
Response Option and Error Message Design Test | 288,000.
Additional Internet Instrument Testing | Test A—60,000. Test B—60,000.
Self-Response Mail Messaging and Contact Strategies Testing | Test A—60,000. Test B—60,000. Test C—60,000.
Content Testing | Test A—40,000.
Content Testing Follow-up Interview | Test A—40,000.
Nonresponse Follow-up Data Collection Testing | 60,000.

Average Hours per Response:

Test | Estimated time per response (in minutes)
Questionnaire Timing Test | 40
Response Option and Error Message Design Test | 40
Additional Internet Instrument Testing | 40
Self-Response Mail Messaging and Contact Strategies Testing | 40
Content Testing | 40
Content Testing Follow-up Interview | 20
Nonresponse Follow-up Data Collection Testing | 40

Burden Hours:

Test | Estimated number of respondents | Estimated time per response (in minutes) | Total burden hours
Questionnaire Timing Test | 288,000 | 40 | 192,000
Response Option and Error Message Design Test | 288,000 | 40 | 192,000
Additional Internet Instrument Testing | Test A—60,000 Test B—60,000 | 40 | 40,000 40,000
Self-Response Mail Messaging and Contact Strategies Testing | Test A—60,000 Test B—60,000 Test C—60,000 | 40 | 40,000 40,000 40,000
Content Testing | 40,000 | 40 | 26,667
Content Testing Follow-up Interview | 40,000 | 20 | 13,333
Nonresponse Follow-up Data Collection Testing | 60,000 | 40 | 40,000
Total (over 3 years) * | 1,016,000 |  | 664,000
Annual Burden Hours | 338,667 |  | 221,333
* Note: This is the maximum burden requested for these tests. Every effort is taken to use existing production sample for testing when the tests do not involve content changes.

Needs and Uses: The U.S. Census Bureau requests authorization from OMB for the American Community Survey (ACS) Methods Panel Tests. The ACS is an ongoing monthly survey that collects detailed social, economic, housing and demographic data from about 3.5 million housing unit addresses in the United States and about 36,000 housing unit addresses in Puerto Rico each year (where it is called the Puerto Rico Community Survey [PRCS]). The ACS also collects detailed data from about 150,600 residents living in group quarters facilities in the United States and about 900 in Puerto Rico. Resulting tabulations from this data collection are provided on a yearly basis. The ACS allows the Census Bureau to provide timely and relevant social, economic, housing, and demographic statistics, even for low levels of geography.

An ongoing data collection effort with an annual sample of this magnitude requires that the Census Bureau continue research, tests, and evaluations aimed at improving data quality, reducing data collection costs, and improving the ACS questionnaire content and related data collection materials. The ACS Methods Panel is a research program at the Census Bureau designed to address and respond to survey issues and needs of the ACS. As part of the Decennial Census Program, the ACS also provides an opportunity to research and test elements of survey data collection that relate to the decennial census. As such, the ACS Methods Panel can serve as a testbed for the decennial census. From 2025 to 2028, the ACS Methods Panel may test ACS and decennial census methods for reducing survey cost, addressing respondent burden, and improving survey response, data quality, and survey efficiencies for housing units and group quarters. Testing may also include revising content or testing new questions. The ACS Methods Panel may also address other emerging needs of the program.

At this time, proposals are in place for several tests related to self-response. Tests may also be conducted for nonresponse follow-up data collection and other ACS operations. Because the ACS Methods Panel is designed to address emerging issues, we may propose additional testing as needed. The proposed tests are outlined below.

The “Questionnaire Timing Test” will test whether changing the timing of when the ACS paper questionnaire is sent to sampled addresses can increase self-response (overall and by data collection mode) and reduce data collection costs. The test will also evaluate the impact of including a Quick Response (QR) code on mail materials to direct respondents to the internet data collection instrument. If successful, adopting these changes could decrease data collection costs associated with the paper questionnaire and the Computer-Assisted Personal Interviewing (CAPI) nonresponse follow-up data collection operation.

The “Internet Instrument Response Option and Error Message Design Test” will provide information to aid the development of web design standards for household and group quarters data collection instruments used throughout the Census Bureau. This test will focus on design standards related to response options and error messages to increase data quality and the respondent experience. The response options testing will compare the use of standard radio buttons (the current design) to the use of modified response buttons. These modified response buttons have a border around the radio button and response option wording allowing for a larger area for a respondent to click or tap to select a response. The response button will highlight when hovered over and change to green once selected. This test will determine if these changes decrease response time, change response distributions, or affect item nonresponse. The error message design test will explore how respondents react to a different display. Current error messages display at the top of the page within a box and use an exclamation mark and color to draw attention. For missing write-in fields, an arrow shows where the error occurred. This experiment will test a change in colors used to draw attention to the error. Instead of an arrow showing where there is a missing write-in, a change to the write-in border will be used.

“Additional Internet Instrument Testing” will test ACS design elements based on input from experts in survey methodology and web survey design. With a growing population using the internet to respond to the ACS, as well as the increased usage of smartphones and other electronic devices with smaller screens, evaluation of the internet instrument is needed. Testing may include revisions focused on improving login procedures and screen navigation, improving the user interface design, as well as methods to decrease respondent burden. Multiple tests may be conducted.

“Self-Response Mail Messaging and Contact Strategies Testing” will evaluate changes to ACS mailings, including the use of additional plain language to improve communication, redesigning the visual appearance of the mail materials, improving messaging to motivate response, and adding or removing materials included in the mailings. Changes to the contact method, the number of contacts, and the timing of the contacts may also be tested. Multiple tests may be conducted.

“Content Testing” will test the impact of changing ACS question wording and response categories, as well as redefining underlying constructs, on the quality of the data collected. New questions may also be tested. Working through the Office of Management and Budget Interagency Committee for the ACS, the Census Bureau will solicit proposals from other federal agencies to change existing questions or add new questions to the ACS. The Census Bureau evaluates changes to current questions by comparing the revised questions to the current ACS questions. For new questions, the Census Bureau proposes comparing the performance of two versions of any new questions and benchmark results with other well-known sources of such information. Response bias or variance may also be measured to evaluate the questions by conducting a follow-up interview with respondents. Multiple tests may be conducted. Since the 60-day Federal Register Notice was published, the scope of the testing was reduced from a Test A and Test B, each with 40,000 respondents, to only a Test A. Additional reviews determined that the objectives of the testing can be accomplished with the single test.

“Nonresponse Follow-up Data Collection Testing” will test modifications to nonresponse follow-up data collection operations to increase response to the ACS. The proposed tests would evaluate changes to the materials used by ACS field representatives (FRs), including changes to the messaging to motivate response or changes to the types of materials used. Testing may also include evaluation of modifications to operational approaches and data collection procedures, such as contact methods and timing. Multiple tests may be conducted. Since the 60-day Federal Register Notice was published, the scope of the testing was reduced from 100,000 to 60,000 respondents. Additional reviews determined that the objectives of the testing can be accomplished with a smaller number of respondents.

Affected Public: Individuals or households.

Frequency: Multiple one-time tests over a 3-year period.

Respondent's Obligation: Mandatory.

Legal Authority: Title 13 U.S.C. 141, 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0936.

Sheleen Dumas,
Departmental PRA Compliance Officer, Office of the Under Secretary for Economic Affairs, Commerce Department.

[FR Doc. 2025-06680 Filed 4-17-25; 8:45 am]

BILLING CODE 3510-07-P